DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Cullman (FEMA Docket No.: B-1146) | City of Cullman (10-04-0559P) | June 1, 2010; June 8, 2010; The Cullman Times | The Honorable Max A. Towson, Mayor, City of Cullman, 204 2nd Avenue Northeast, Cullman, AL 35055 | October 6, 2010 | 010209
Houston (FEMA Docket No.: B-1150) | City of Dothan (10-04-5284P) | July 9, 2010; July 16, 2010; The Dothan Eagle | The Honorable Mike Schmitz, Mayor, City of Dothan, P.O. Box 2128, Dothan, AL 36303 | November 15, 2010 | 010104
Arizona:
Maricopa (FEMA Docket No.: B-1160) | City of Tempe (10-09-2035P) | September 16, 2010; September 23, 2010; Arizona Business Gazette | The Honorable Hugh Hallman, Mayor, City of Tempe, 31 East 5th Street, Tempe, AZ 85281 | January 21, 2011 | 040054
Mojave (FEMA Docket No.: B-1160) | Fort Mojave Indian Reservation (10-09-1826P) | September 10, 2010; September 17, 2010; The Kingman Daily Miner | Mr. Timothy Williams, Chairman, Fort Mojave, Indian Reservation, 500 Merriman Avenue, Needles, CA 92363 | August 31, 2010 | 040133
Navajo (FEMA Docket No.: B-1150) | City of Show Low (09-09-2789P) | July 9, 2010; July 16, 2010; White Mountain Independent | The Honorable Rick Fernau, Mayor, City of Show Low, 550 North 9th Place, Show Low, AZ 85901 | June 28, 2010 | 040069
Pinal (FEMA Docket No.: B-1160) | Town of Florence (10-09-1057P) | September 24, 2010; October 1, 2010; Casa Grande Dispatch | The Honorable Vikki Kilvinger, Mayor, Town of Florence, 775 North Main Street, Florence, AZ 85132 | January 31, 2011 | 040084
Yavapai (FEMA Docket No.: B-1160) | Unincorporated areas of Yavapai County (10-09-0965P) | August 27, 2010; September 3, 2010; The Daily Courier | Ms. Carol Springer, Chair, Yavapai County Board of Supervisors, 1015 Fair Street, Prescott, AZ 86305 | January 3, 2011 | 040093
Yavapai (FEMA Docket No.: B-1150) | Unincorporated areas of Yavapai County (10-09-2672P) | July 9, 2010; July 16, 2010; The Daily Courier | Ms. Carol Springer, Chair, Yavapai County Board of Supervisors, 1015 Fair Street, Prescott, AZ 86305 | November 15, 2010 | 040093
California:
Merced (FEMA Docket No.: B-1150) | City of Merced (10-09-0548P) | July 9, 2010; July 16, 2010; Merced Sun-Star | The Honorable Bill Spriggs, Mayor, City of Merced, 678 West 18th Street, Merced, CA 95340 | November 15, 2010 | 060191
Riverside (FEMA Docket No.: B-1160) | City of Riverside (10-09-0680P) | September 3, 2010; September 10, 2010; The Press-Enterprise | The Honorable Ronald O. Loveridge, Mayor, City of Riverside, 3900 Main Street, Riverside, CA 92522 | August 27, 2010 | 060260
Sacramento (FEMA Docket No.: B-1150) | City of Sacramento (10-09-0525P) | July 9, 2010; July 16, 2010; The Sacramento Bee | The Honorable Kevin Johnson, Mayor, City of Sacramento, 915 I Street, 5th Floor, Sacramento, CA 95814 | November 15, 2010 | 060266
San Bernardino (FEMA Docket No.: B-1150) | City of Colton (09-09-2788P) | July 9, 2010; July 16, 2010; San Bernardino Bulletin | The Honorable David Zamora, Mayor, City of Colton, 650 North La Cadena Drive, Colton, CA 92324 | November 15, 2010 | 060273
San Bernardino (FEMA Docket No.: B-1150) | City of San Bernardino (09-09-2788P) | July 9, 2010; July 16, 2010; San Bernardino Bulletin | The Honorable Patrick J. Morris, Mayor, City of San Bernardino, 300 North D Street, 6th Floor, San Bernardino, CA 92418 | November 15, 2010 | 060281
Santa Barbara (FEMA Docket No.: B-1150) | Unincorporated areas of Santa Barbara County (10-09-1185P) | July 9, 2010; July 16, 2010; Santa Barbara News-Press | Ms. Joni Gray, Chair, Santa Barbara County Board of Supervisors, 385 North Arrowhead Avenue, 5th Floor, San Bernardino, CA 92415 | June 29, 2010 | 060331
Santa Clara (FEMA Docket No.: B-1165) | City of Milpitas(10-09-1254P) | October 12, 2010; October 19, 2010; San Jose Mercury News | The Honorable Jose Esteves, Mayor, City of Milpitas, 455 East Calaveras Boulevard, Milpitas, CA 95035 | September 30, 2010 | 060344
Santa Clara (FEMA Docket No.: B-1150) | Unincorporated areas of Santa Clara County (09-09-2556P) | June 30, 2010; July 7, 2010; Santa Clara Weekly | Mr. Ken Yeager, Chairman, Santa Clara County Board of Supervisors, 70 West Hedding Street, 10th Floor, San Jose, CA 95110 | June 23, 2010 | 060337
Shasta (FEMA Docket No.: B-1165) | City of Anderson (10-09-1399P) | October 13, 2010; October 20, 2010; Anderson Valley Post | The Honorable Norma Comnick, Mayor, City of Anderson, 1887 Howard Street, Anderson, CA 96007 | September 30, 2010 | 060359
Shasta (FEMA Docket No.: B-1165) | Unincorporated areas of Shasta County (10-09-1399P) | October 13, 2010; October 20, 2010; Anderson Valley Post | Mr. Les Baugh, Chairman, Shasta County Board of Supervisors, 1450 Court Street, Suite 308B, Redding, CA 96001 | September 30, 2010 | 060358
Ventura (FEMA Docket No.: B-1150) | City of Simi Valley (10-09-2783P) | July 9, 2010; July 16, 2010; The Ventura County Star | The Honorable Bob Huber, Mayor, City of Simi Valley, 2929 Tapo Canyon Road, Simi Valley, CA 93063 | November 15, 2010 | 060421
Colorado:
Arapahoe (FEMA Docket No.: B-1165) | City of Aurora (10-08-0276P) | September 9, 2010; September 16, 2010; Aurora Sentinel | The Honorable Ed Tauer, Mayor, City of Aurora, 15151 East Alameda Parkway, 5th Floor, Aurora, CO 80012 | January 14, 2011 | 080002
Douglas (FEMA Docket No.: B-1165) | Town of Parker (10-08-0768P) | October 7, 2010; October 14, 2010; Douglas County News-Press | The Honorable David Casiano, Mayor, Town of Parker, 20120 East Mainstreet, Parker, CO 80138 | October 29, 2010 | 080310
Douglas (FEMA Docket No.: B-1165) | Unincorporated areas of Douglas County (10-08-0768P) | October 7, 2010; October 14, 2010; Douglas County News-Press | Ms. Jill E. Reppela, Chair, Douglas County Board of Commissioners, 100 3rd Street, Castle Rock, CO 80104 | October 29, 2010 | 080049
Gunnison (FEMA Docket No.: B-1146) | City of Gunnison (09-08-0466P) | June 10, 2010; June 17, 2010; The Gunnison Country Times | The Honorable Stu Ferguson, Mayor, City of Gunnison, 201 West Virginia Avenue, Gunnison, CO 81230 | October 15, 2010 | 080080
Gunnison (FEMA Docket No.: B-1146) | Unincorporated areas of Gunnison County (09-08-0466P) | June 10, 2010; June 17, 2010; The Gunnison Country Times | Mr. Hap Channell, Chairman, Gunnison County Board of Commissioners, 200 East Virginia Avenue, Suite 104, Gunnison, CO 81230 | October 15, 2010 | 080078
Jefferson (FEMA Docket No.: B-1160) | City of Westminster (10-08-0546P) | September 16, 2010; September 23, 2010; Westminster Window | The Honorable Nancy McNally, Mayor, City of Westminster, 4800 West 92nd Avenue, Westminster, CO 80031 | January 21, 2011 | 080008
Jefferson (FEMA Docket No.: B-1160) | Unincorporated areas of Jefferson County (10-08-0546P) | September 16, 2010; September 23, 2010; Westminster Window | Ms. Faye Griffin, Chair, Jefferson County Board of Commissioners, 100 Jefferson County Parkway, Golden, CO 80419 | January 21, 2011 | 080087
Pueblo (FEMA Docket No.: B-1160) | City of Pueblo (10-08-0862P) | September 3, 2010; September 10, 2010; The Pueblo Chieftain | Mr. Ray Aguilera, President, Pueblo City Council, 200 South Main, Pueblo, CO 81003 | January 10, 2011 | 085077
Weld (FEMA Docket No.: B-1146) | Town of Milliken (09-08-0927P) | June 18, 2010; June 25, 2010; The Tribune | The Honorable L. Jane Lichtfuss, Mayor, Town of Milliken, 1101 Broad Street, Milliken, CO 80543 | October 25, 2010 | 080187
Weld (FEMA Docket No.: B-1146) | Unincorporated areas of Weld County (09-08-0927P) | June 18, 2010; June 25, 2010; The Tribune | Ms. Barbara Kirkmeyer, Chair, Weld County Board of Commissioners, 915 10th Street, P.O. Box 758, Greeley, CO 80632 | October 25, 2010 | 080266
Florida:
Bay (FEMA Docket No.: B-1146) | City of Panama City Beach (10-04-2741P) | June 25, 2010; July 2, 2010; The News Herald | The Honorable Gayle Oberst, Mayor, City of Panama City Beach, 110 South Arnold Road, Panama City Beach, FL 32413 | November 2, 2010 | 120013
Charlotte (FEMA Docket No.: B-1165) | Unincorporated areas of Charlotte County (10-04-4920P) | October 22, 2010; October 29, 2010; Charlotte Sun | Mr. Bob Starr, Chairman, Charlotte County Board of Commissioners, 18500 Murdock Circle, Port Charlotte, FL 33948 | October 15, 2010 | 120061
Lake (FEMA Docket No.: B-1160) | City of Clermont (10-04-4299P) | September 3, 2010; September 10, 2010; Daily Commercial | The Honorable Harold Turville, Jr., Mayor, City of Clermont, 685 West Montrose Street, Clermont, FL 34711 | January 10, 2011 | 120133
Lake (FEMA Docket No.: B-1160) | Unincorporated areas of Lake County (10-04-4299P) | September 3, 2010; September 10, 2010; Daily Commercial | Ms. Jennifer Hill, Chair, Lake County Board of Commissioners, 315 West Main Street, P.O. Box 7800, Tavares, FL 32778 | January 10, 2011 | 120421
Lee (FEMA Docket No.: B-1156) | City of Cape Coral (10-04-0289P) | August 27, 2010; September 3, 2010; The Fort Myers News-Press | The Honorable John Sullivan, Mayor, City of Cape Coral, P.O. Box 150027, Cape Coral, FL 33915 | January 3, 2011 | 125095
Lee (FEMA Docket No.: B-1156) | Unincorporated areas of Lee County (10-04-0289P) | August 27, 2010; September 3, 2010; The Fort Myers News-Press | Mr. Frank Mann, Chairman, Lee County Board of Commissioners, P.O. Box 398, Ft. Myers, FL 33902 | January 3, 2011 | 125124
Miami-Dade (FEMA Docket No.: B-1165) | City of Miami (10-04-5593P) | October 12, 2010; October 19, 2010; Miami Daily Business Review | The Honorable Tomás P. Regalado, Mayor, City of Miami, 3500 Pan American Drive, Miami, FL 33133 | September 30, 2010 | 120650
Miami-Dade (FEMA Docket No.: B-1150) | City of Sunny Isles Beach (10-04-4666P) | July 9, 2010; July 16, 2010; Miami Daily Business Review | The Honorable Norman S. Edlecup, Mayor, City of Sunny Isles Beach, 18070 Collins Avenue, Sunny Isles Beach, FL 33160 | June 30, 2010 | 120688
Monroe (FEMA Docket No.: B-1160) | Unincorporated areas of Monroe County (10-04-5258P) | September 17, 2010; September 24, 2010; Key West Citizen | The Honorable Heather Carruthers, Mayor, Monroe County, 1100 Simonton Street, Key West, FL 33040 | September 10, 2010 | 125129
Orange (FEMA Docket No.: B-1165) | City of Orlando (10-04-0788P) | August 12, 2010; August 19, 2010; Orlando Weekly | The Honorable Buddy Dyer, Mayor, City of Orlando, P.O. Box 4990, Orlando, FL 32802 | December 17, 2010 | 120186
Orange (FEMA Docket No.: B-1150) | City of Orlando (10-04-0789P) | May 20, 2010; May 27, 2010; Orlando Weekly | The Honorable Buddy Dyer, Mayor, City of Orlando, P.O. Box 4990, Orlando, FL 32802 | September 24, 2010 | 120186
Polk (FEMA Docket No.: B-1150) | City of Winter Haven (10-04-1058P) | June 4, 2010; June 11, 2010; News Chief | The Honorable Jeff Potter, Mayor, City of Winter Haven, 451 3rd Street Northwest, Winter Haven, FL 33881 | October 12, 2010 | 120271
Sumter (FEMA Docket No.: B-1150) | Unincorporated areas of Sumter County (10-04-1900P) | July 22, 2010; July 29, 2010; Sumter County Times | Mr. Don Burgess, Chairman, Sumter County Board of Commissioners, 7375 Powell Road, Wildwood, FL 34785 | November 26, 2010 | 120296
Georgia: Lamar (FEMA Docket No.: B-1172) | City of Barnesville (10-04-1925P) | August 24, 2010; August 31, 2010; The Herald-Gazette | The Honorable Peter Banks, Mayor, City of Barnesville, 109 Forsyth Street, Barnesville, GA 30204 | December 29, 2010 | 130207
Hawaii: Maui (FEMA Docket No.: B-1160) | Unincorporated areas of Maui County (10-09-1230P) | September 10, 2010; September 17, 2010; The Maui News | The Honorable Alan M. Arakawa, Mayor, Maui County, 200 South High Street, 9th Floor, Wailuku, HI 96793 | January 18, 2011 | 150003
Kansas: Johnson (FEMA Docket No.: B-1160) | City of Leawood (10-07-2021P) | September 15, 2010; September 22, 2010; The Johnson County Sun | The Honorable Peggy J. Dunn, Mayor, City of Leawood, 4800 Town Center Drive, Leawood, KS 66211 | January 20, 2011 | 200167
Kentucky:
Hopkins (FEMA Docket No.: B-1165) | City of Madisonville (10-04-3232P) | September 10, 2010; September 17, 2010; The Messenger | The Honorable David Jackson, Mayor, City of Madisonville, 67 North Main Street, Madisonville, KY 42431 | January 17, 2011 | 210115
Hopkins (FEMA Docket No.: B-1165) | Unincorporated areas of Hopkins County (10-04-3232P) | September 10, 2010; September 17, 2010; The Messenger | The Honorable Donald E. Carroll, Judge, Hopkins County, 56 North Main Street, Madisonville, KY 42431 | January 17, 2011 | 210112
Montana:
Cascade (FEMA Docket No.: B-1156) | Unincorporated areas of Cascade County (10-08-0429P) | August 10, 2010; August 17, 2010; Great Falls Tribune | Mr. Bill Salina, Chairman, Cascade County Board of Commissioners, 325 2nd Avenue North, Room 111, Great Falls, MT 59401 | December 15, 2010 | 300008
Yellowstone (FEMA Docket No.: B-1172) | Unincorporated areas of Yellowstone County (09-08-0713P) | June 10, 2010; June 17, 2010; The Billings Gazette | Mr. John Ostlund, Chairman, Yellowstone County Board of Commissioners, P.O Box 35000, Billings, MT 59107 | May 28, 2010 | 300142
Nevada: Clark (FEMA Docket No.: B-1150) | City of Las Vegas (10-09-1223P) | July 1, 2010; July 8, 2010; Las Vegas Review-Journal | The Honorable Oscar B. Goodman, Mayor, City of Las Vegas, 400 Stewart Avenue, 10th Floor, Las Vegas, NV 89101 | June 22, 2010 | 325276
North Carolina:
Pitt (FEMA Docket No.: B-1156) | City of Greenville (10-04-3020P) | August 23, 2010; August 30, 2010; The Daily Reflector | The Honorable Patricia C. Dunn, Mayor, City of Greenville, P.O. Box 7207, Greenville, NC 27835 | December 28, 2010 | 370191
Pitt (FEMA Docket No.: B-1156) | City of Greenville (10-04-3296P) | August 19, 2010; August 26, 2010; The Daily Reflector | The Honorable Patricia C. Dunn, Mayor, City of Greenville, P.O. Box 7207, Greenville, NC 27835 | August 12, 2010 | 370191
Richmond (FEMA Docket No.: B-1157) | Unincorporated areas of Richmond County (10-04-5289P) | August 6, 2010; August 13, 2010; Richmond County Daily Journal | Mr. Kenneth R. Robinette, Chairman, Richmond County Board of Commissioners, P.O. Box 504, Rockingham, NC 28380 | July 30, 2010 | 370348
Wake (FEMA Docket No.: B-1160) | Unincorporated areas of Wake County (09-04-2504P) | September 7, 2010; September 14, 2010; The News & Observer | Mr. David Cooke, Wake County Manager, P.O. Box 550, Raleigh, NC 27602 | January 12, 2011 | 370368
Wake (FEMA Docket No.: B-1156) | Unincorporated areas of Wake County (09-04-7036P) | July 29, 2010; August 5, 2010; The News & Observer | Mr. David Cooke, Wake County Manager, P.O. Box 550, Raleigh, NC 27602 | December 3, 2010 | 370368
South Carolina:
Richland (FEMA Docket No.: B-1146) | Unincorporated areas of Richland County (09-04-2521P) | May 28, 2010; June 4, 2010; The Columbia Star | Mr. Paul Livingston, Chairman, Richland County Council, 2020 Hampton Street, 2nd Floor, Columbia, SC 29202 | October 4, 2010 | 450170
South Dakota: Lincoln (FEMA Docket No.: B-1156) | Unincorporated areas of Lincoln County (10-08-0327P) | August 19, 2010; August 26, 2010; Lennox Independent | Mr. Jim Schmidt, Chairman, Lincoln County Board of Commissioners, 104 North Main Street, Canton, SD 57013 | December 24, 2010 | 460277
Tennessee:
Knox (FEMA Docket No.: B-1150) | Unincorporated areas of Knox County (10-04-1555P) | July 9, 2010; July 16, 2010; Knoxville News-Sentinel | The Honorable Tim Burchett, Mayor, Knox County, 400 Main Street, Suite 615, Knoxville, TN 37902 | June 30, 2010 | 475433
Shelby (FEMA Docket No.: B-1150) | Town of Collierville (10-04-1188P) | June 24, 2010; July 1, 2010; The Collierville Herald | The Honorable Stan Joyner, Jr., Mayor, Town of Collierville, 500 Poplar View Parkway, Collierville, TN 38017 | June 17, 2010 | 470263
Utah:
Washington (FEMA Docket No.: B-1150) | City of Washington (10-08-0519P) | July 9, 2010; July 16, 2010; The Spectrum | The Honorable Kenneth Neilson, Mayor, City of Washington, 111 North 100 East Washington, Washington, UT 84780 | November 15, 2010 | 490182
Weber (FEMA Docket No.: B-1160) | City of Ogden (10-08-0035P) | September 3, 2010; September 10, 2010; Standard Examiner | The Honorable Matthew R. Godfrey, Mayor, City of Ogden, 2549 Washington Boulevard, Suite 910, Ogden, UT 84401 | January 10, 2011 | 490189
Wisconsin: Dane (FEMA Docket No.: B-1150) | City of Madison (10-05-3876P) | July 9, 2010; July 16, 2010; Wisconsin State Journal | The Honorable Dave Cieslewicz, Mayor, City of Madison, 210 Martin Luther King, Jr. Boulevard, City-County Building, Room 403, Madison, WI 53703 | July 30, 2010 | 550083

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-8117 Filed 4-5-11; 8:45 am]

BILLING CODE 9110-12-P